DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of one individual and two entities whose property and interests in property have been unblocked pursuant to the Foreign Narcotics Kingpin Designation Act (Kingpin Act) (21 U.S.C. 1901-1908, 8 U.S.C. 1182). In addition, OFAC is publishing an amendment to the identifying information of three individuals previously designated pursuant to the Kingpin Act.

DATES: The unblocking and removal from the list of Specially Designated Nationals and Blocked Persons (SDN List) of the one individual and two entities identified in this notice whose property and interests in property were blocked pursuant to the Kingpin Act, is effective on October 21, 2014.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On October 21, 2014, the Director of OFAC removed from the SDN List the one individual and two entities listed below, whose property and interests in property were blocked pursuant to the Kingpin Act:

Individual

1. GALEANO HERRENO, Saul, c/o 7 KARNES, Bogota, Colombia; DOB 26 Oct 1940; Cedula No. 5785990 (Colombia) (individual) [SDNTK].

Entities

1. ESTUDIOS Y PROYECTOS INTEGRALES DEL NORTE, S.C., Calle Coronado #421, Colonia Centro, Chihuahua, Chihuahua, Mexico; R.F.C. EPI-980910 (Mexico) [SDNTK].

2. A.F.A.I. CORP., Panama City, Panama; RUC # 1504531-1-648386 (Panama) [SDNTK].

In addition, OFAC amended the identifying information for the following individuals previously designated pursuant to the Kingpin Act:

1. MARTINEZ LASSO, Vielka Judith; DOB 09 Nov 1967; POB El Higo, San Carlos, Panama; Cedula No. 8-283-646 (Panama) (individual) [SDNTK] (Linked To: THEA HOLDING & CO., INC.; Linked To: INVERSIONES OMEGA INTERNACIONAL S.A.; Linked To: GCH & SONS CO., INC.; Linked To: EURO FINANCING, CORP.; Linked To: EUROCAMBIO INVESTMENT S.A.; Linked To: A.F.A.I. CORP.; Linked To: INVERSIONES TROL PANAMA S.A.; Linked To: EUROCAMBIO, S.A.; Linked To: BEAUTY STATION, S.A.).

2. PEREZ FABREGA, Margarita Ines; DOB 14 Aug 1976; POB Panama; citizen Panama; Cedula No. 9-700-1662 (Panama); Passport 1412336 (Panama) (individual) [SDNTK] (Linked To: EUROCAMBIO INVESTMENT S.A.; Linked To: GCH & SONS CO., INC.; Linked To: THEA HOLDING & CO., INC.; Linked To: BEAUTY STATION, S.A.; Linked To: BERLIN INDUSTRIES, CORP.; Linked To: A.F.A.I. CORP.; Linked To: INVERSIONES TROL PANAMA S.A.; Linked To: INVERSIONES OMEGA INTERNACIONAL S.A.).

3. PLATA MCNULTY, Jorge Alberto; DOB 01 Jun 1968; POB Panama; citizen Panama; Cedula No. 8-294-311 (Panama); Passport 1412335 (Panama) (individual) [SDNTK] (Linked To: EUROCAMBIO INVESTMENT S.A.; Linked To: THEA HOLDING & CO., INC.; Linked To: EURO FINANCING, CORP.; Linked To: GCH & SONS CO., INC.; Linked To: A.F.A.I. CORP.; Linked To: BEAUTY STATION, S.A.; Linked To: INVERSIONES TROL PANAMA S.A.; Linked To: INVERSIONES OMEGA INTERNACIONAL S.A.; Linked To: INMOBILIARIA DAVITOV S.A.; Linked To: BERLIN INDUSTRIES, CORP.).

The listing for the individuals now appears as follows:

1. MARTINEZ LASSO, Vielka Judith; DOB 09 Nov 1967; POB El Higo, San Carlos, Panama; Cedula No. 8-283-646 (Panama) (individual) [SDNTK] (Linked To: THEA HOLDING & CO., INC.; Linked To: INVERSIONES OMEGA INTERNACIONAL S.A.; Linked To: GCH & SONS CO., INC.; Linked To: EURO FINANCING, CORP.; Linked To: EUROCAMBIO INVESTMENT S.A.; Linked To: INVERSIONES TROL PANAMA S.A.; Linked To: EUROCAMBIO, S.A.; Linked To: BEAUTY STATION, S.A.).

2. PEREZ FABREGA, Margarita Ines; DOB 14 Aug 1976; POB Panama; citizen Panama; Cedula No. 9-700-1662 (Panama); Passport 1412336 (Panama) (individual) [SDNTK] (Linked To: EUROCAMBIO INVESTMENT S.A.; Linked To: GCH & SONS CO., INC.; Linked To: THEA HOLDING & CO., INC.; Linked To: BEAUTY STATION, S.A.; Linked To: BERLIN INDUSTRIES, CORP.; Linked To: INVERSIONES TROL PANAMA S.A.; Linked To: INVERSIONES OMEGA INTERNACIONAL S.A.).

3. PLATA MCNULTY, Jorge Alberto; DOB 01 Jun 1968; POB Panama; citizen Panama; Cedula No. 8-294-311 (Panama); Passport 1412335 (Panama) (individual) [SDNTK] (Linked To: EUROCAMBIO INVESTMENT S.A.; Linked To: THEA HOLDING & CO., INC.; Linked To: EURO FINANCING, CORP.; Linked To: GCH & SONS CO., INC.; Linked To: BEAUTY STATION, S.A.; Linked To: INVERSIONES TROL PANAMA S.A.; Linked To: INVERSIONES OMEGA INTERNACIONAL S.A.; Linked To: INMOBILIARIA DAVITOV S.A.; Linked To: BERLIN INDUSTRIES, CORP.).

Dated: October 21, 2014.
Adam J. Szubin,
Director, Office of Foreign Assets Control.

[FR Doc. 2014-25607 Filed 10-27-14; 8:45 am]

BILLING CODE 4810-AL-P